DEPARTMENT OF COMMERCE

National Oceanic and Atmospheric Administration

Nomination of Existing Marine Protected Areas to the National System of Marine Protected Areas

AGENCY: National Marine Protected Areas Center (MPA Center), Office of National Marine Sanctuaries (ONMS), National Ocean Service, National Oceanic and Atmospheric Administration (NOAA), Department of Commerce (DOC).

ACTION: Notice; request for public comments.

SUMMARY: In January 2013, NOAA and the Department of the Interior (DOI) invited federal, state, commonwealth, and territorial marine protected area (MPA) programs with potentially eligible existing MPAs to nominate their sites to the National System of MPAs (national system). The national system and the nomination process are described in the Framework for the National System of Marine Protected Areas of the United States (Framework), developed in response to Executive Order 13158 on Marine Protected Areas and published on November 19, 2008 (73 FR 69608). The Framework provides guidance for collaborative efforts among federal, state, commonwealth, territorial, tribal and local governments and stakeholders to develop an effective and well-coordinated national system of MPAs.

DATES: Comments on the nominations to the national system are due July 22, 2013.

ADDRESSES: Lauren Wenzel, National Marine Protected Areas Center, Office of National Marine Sanctuaries, 1305 East-West Highway, N/NMS, Silver Spring, MD 20910. Comments sent by any other method, to any other address or individual, or received after the end of the comment period, will not be considered by NOAA.

FOR FURTHER INFORMATION CONTACT: Lauren Wenzel, NOAA, at 301-713-7265 or via email at lauren.wenzel@noaa.gov. A detailed electronic copy of the List of National System MPAs is available for download at http://www.mpa.gov.

SUPPLEMENTARY INFORMATION:

I. Background on National System

The national system of MPAs is made up of member MPA sites, networks and systems established and managed by federal, state, commonwealth, territorial, tribal or local governments that collectively enhance conservation of the nation's natural and cultural marine heritage and represent its diverse ecosystems and resources.

Benefits of joining the national system, include a facilitated means to work with other MPA managers in the region, and nationally on issues of common conservation concern; fostering greater public and international recognition of U.S. MPAs and the resources they protect; priority in the receipt of available technical and other support for cross-cutting needs; and additional opportunities to participate in and influence federal and regional ocean conservation and management initiatives (such as integrated ocean observing systems, systematic monitoring and evaluation, targeted outreach to key user groups, and helping to identify and address MPA research needs). In addition, the national system provides a forum for coordinated regional planning about place-based conservation priorities that does not otherwise exist.

A site must have existing protections of natural and/or cultural resources in place in order to be eligible to join the national system, as well as meet other criteria described in the Framework. Joining the national system does not establish new regulatory authority or change existing regulations in any way, require changes affecting the designation process or management of member MPAs, or bring state, territorial, tribal or local sites under federal authority.

II. Nomination Process

This current round of nominations began on January 28, 2013 and the deadline for nominations was March 29, 2013.

There are four entry criteria for existing MPAs to join the national system.

1. Meets the definition of an MPA as defined in the Framework.

2. Has a management plan (can be site-specific or part of a broader programmatic management plan; must have goals and objectives and call for monitoring or evaluation of those goals and objectives).

3. Contributes to at least one priority conservation objective as listed in the Framework.

4. Cultural heritage MPAs must also conform to criteria for the National Register for Historic Places.

Additional sites not currently meeting the management plan criterion can be evaluated for eligibility to be nominated to the national system on a case-by-case basis based on their ability to fill gaps in the national system coverage of the priority conservation objectives and design principles described in the Framework.

NOAA used existing information in the MPA Inventory to determine which MPAs meet the first and second criteria. The inventory is online at http://www.mpa.gov/dataanalysis/mpainventory/ and information about potentially eligible sites is posted online at http://www.mpa.gov/pdf/helpful-resources/nomination_summary_jan2013.pdf. As part of the nomination process, the managing entity for each potentially eligible site is asked to provide information on the third and fourth criteria. Following this public comment period, NOAA and DOI will make a determination about the eligibility of nominated sites. All comments will be forwarded to the relevant MPA management agency, which will reaffirm or withdraw the nomination based on public comment received and any other factors deemed relevant.

III. List of MPAs Nominated to the National System MPAs

The following 82 MPAs have been nominated by the California Department of Fish and Wildlife and the National Park Service. The complete list of National System MPAs, which now includes 355 members, is available at www.mpa.gov.

Federal Marine Protected Areas

Padre Island National Seashore (TX)

Redwood National Park (CA)

California

Abalone Cove State Marine Conservation Area

Anacapa Island Special Closure (A)

Anacapa Island Special Closure (B)

Anacapa Island State Marine Conservation Area

Anacapa Island State Marine Reserve

Arrow Point to Lion Head Point (Catalina Island) State Marine Conservation Area

Batiquitos Lagoon State Marine Conservation Area

Begg Rock (San Nicolas Island Quad) State Marine Reserve

Big Flat State Marine Conservation Area

Big River Estuary State Marine Conservation Area

Bird Rock (Catalina Island) State Marine Conservation Area

Blue Cavern (Catalina Island) State Marine Conservation Area

Bolsa Bay State Marine Conservation Area

Bolsa Chica Basin State Marine Conservation Area

Cabrillo State Marine Reserve

Campus Point State Marine Conservation Area

Carrington Point (Santa Rosa Island) State Marine Reserve

Casino Point (Catalina Island) State Marine Conservation Area

Castle Rock Special Closure

Cat Harbor (Catalina Island) State Marine Conservation Area

Crystal Cove State Marine Conservation Area

Dana Point State Marine Conservation Area

Double Cone Rock State Marine Conservation Area

False Klamath Rock Special Closure

Famosa Slough State Marine Conservation Area

Farnsworth Offshore (Catalina Island) State Marine Conservation Area

Farnsworth Onshore (Catalina Island) State Marine Conservation Area

Footprint State Marine Reserve

Goleta Slough State Marine Conservation Area

Gull Island (Santa Cruz Island) State Marine Reserve

Harris Point (San Miguel Island) State Marine Reserve

Judith Rock (San Miguel Island) State Marine Reserve

Kashtayit State Marine Conservation Area

Laguna Beach State Marine Conservation Area

Laguna Beach State Marine Reserve

Long Point (Catalina Island) State Marine Reserve

Lover's Cove (Catalina Island) State Marine Conservation Area

MacKerricher State Marine Conservation Area

Matlahuayl State Marine Reserve

Mattole Canyon State Marine Reserve

Naples State Marine Conservation Area

Navarro River Estuary State Marine Conservation Area

Painted Cave (Santa Cruz Island) State Marine Conservation Area

Point Cabrillo State Marine Reserve

Point Conception State Marine Reserve

Point Dume State Marine Conservation Area

Point Dume State Marine Reserve

Point St. George Reef Offshore State Marine Conservation Area

Point Vicente State Marine Conservation Area

Pyramid Point State Marine Conservation Area

Reading Rock State Marine Conservation Area

Reading Rock State Marine Reserve

Richardson Rock (San Miguel Island) State Marine Reserve

Rockport Rocks Special Closure

Russian Gulch State Marine Conservation Area

Samoa State Marine Conservation Area

San Diego-Scripps Coastal State Marine Conservation Area

San Dieguito Lagoon State Marine Conservation Area

San Elijo Lagoon State Marine Conservation Area

San Miguel Island Special Closure A-1

Santa Barbara Island State Marine Reserve

Scorpion (Santa Cruz Island) State Marine Reserve

Sea Lion Gulch State Marine Reserve

Skunk Point (Santa Rosa Island) State Marine Reserve

South Cape Mendocino State Marine Reserve

South Humboldt Bay State Marine Recreational Management Area

South La Jolla State Marine Conservation Area

South La Jolla State Marine Reserve

South Point (Santa Rosa Island) State Marine Reserve

Southwest Seal Rock Special Closure

Steamboat Rock Special Closure

Sugarloaf Island Special Closure

Swami's State Marine Conservation Area

Ten Mile Beach State Marine Conservation Area

Ten Mile Estuary State Marine Conservation Area

Ten Mile State Marine Reserve

Tijuana River Mouth State Marine Conservation Area

Upper Newport Bay State Marine Conservation Area

Van Damme State Marine Conservation Area

Vizcaino Rock Special Closure

IV. Request for Comments

NOAA is requesting comments on degree to which the nominated MPAs meet the criteria for membership in the National System of Marine Protected Areas. Details on the criteria are found at http://www.mpa.gov/pdf/national-system/finalframework_full.pdf.

Dated: May 15, 2013.
Holly A. Bamford,
Assistant Administrator for Ocean Services and Coastal Zone Management.

[FR Doc. 2013-12175 Filed 5-22-13; 8:45 am]

BILLING CODE 3510-NK-P